NEIGHBORHOOD REINVESTMENT CORPORATION

Sunshine Act Meetings

Regular Board of Directors Meeting

TIME AND DATE: 2:00 p.m., Wednesday, July 31, 2019

PLACE: NeighborWorks America—Gramlich Boardroom, 999 North Capitol Street NE, Washington, DC 20002.

STATUS: Open (with the exception of Executive Session)

MATTERS TO BE CONSIDERED:

The General Counsel of the Corporation has certified that in his opinion, one or more of the exemptions set forth in 5 U.S.C. 552 (b)(2) and (4) permit closure of the following portion(s) of this meeting:

• Report from CEO

• Board and Officer Elections

Agenda

I. Call to Order

II. Executive Session: Report from CEO

III. Discussion Item Audit Committee Report

IV. Discussion Item Investment Policy

V. Discussion Item Client Management System

VI. Discussion Item Preview of Federal Budget Process—FY2020 and FY2021

VII. Discussion Item 40th Anniversary Event

VIII. Management Program Background and Updates

IX. Adjournment

CONTACT PERSON FOR MORE INFORMATION: Rutledge Simmons, EVP & General Counsel/Secretary, (202) 760-4105; Rsimmons@nw.org.

Rutledge Simmons,
EVP & General Counsel/Corporate Secretary.

[FR Doc. 2019-15692 Filed 7-19-19; 11:15 am]

BILLING CODE 7570-02-P